ENVIRONMENTAL PROTECTION AGENCY

[EPA-HQ-OPP-2019-0511; FRL-9999-06]

Pesticide Registration Maintenance Fee: Notice of Receipt of Requests To Voluntarily Cancel Certain Pesticide Registrations

AGENCY: Environmental Protection Agency (EPA).

ACTION: Notice.

SUMMARY: In accordance with the Federal Insecticide, Fungicide, and Rodenticide Act (FIFRA), EPA is issuing a notice of receipt of requests by registrants through 2019 Pesticide Registration Maintenance Fee responses to voluntarily cancel certain pesticide registrations. EPA intends to grant these requests at the close of the comment period for this announcement unless the Agency receives substantive comments within the comment period that would merit its further review of the requests, or unless the registrants withdraw its requests. If these requests are granted, any sale, distribution, or use of products listed in this notice will be permitted after the registrations have been cancelled only if such sale, distribution, or use is consistent with the terms as described in the final order.

DATES: Comments must be received on or before October 23, 2019.

ADDRESSES: Submit your comments, identified by docket identification (ID) number EPA-HQ-OPP-2019-0511, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

Submit written withdrawal request by mail to: Information Technology and Resources Management Division (7502P), Office of Pesticide Programs, Environmental Protection Agency, 1200 Pennsylvania Ave. NW, Washington, DC 20460-0001. ATTN: Michael Yanchulis.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: Michael Yanchulis, Information Technology and Resources Management Division (7502P), Office of Pesticide Programs, Environmental Protection Agency, 1200 Pennsylvania Ave. NW, Washington, DC 20460-0001; telephone number: (703) 347-0237; email address: yanchulis.michael@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This notice announces receipt by the Agency of requests from registrants to cancel 241 pesticide products registered under FIFRA section 3 (7 U.S.C. 136a) or 24(c) (7 U.S.C. 136v(c)). These registrations are listed in sequence by registration number (or company number and 24(c) number) in Table 1 of this unit.

Unless the Agency determines that there are substantive comments that warrant further review of the requests or the registrants withdraw their requests, EPA intends to issue an order in the Federal Register canceling all the affected registrations.

Table 1—Registrations With Pending Requests for Cancellation
Registration No. | Company No. | Product name
100-1083 | 100 | Doubleplay Selective Herbicide.
100-1164 | 100 | Amistar Fungicide.
100-1356 | 100 | Syn-AI7227.
264-976 | 264 | Raxil MD Extra Fungicide.
264-997 | 264 | Raxil MD Extra W Seed Treatment.
264-1000 | 264 | RTU-Trifloxystrobin-Metalaxyl Flowable Fungicide.
264-1034 | 264 | Prosper T400 Insecticide and Fungicide Seed Treatment.
400-486 | 400 | Mefenoxam 2EC Fungicide.
400-597 | 400 | Annihilate LV.
400-598 | 400 | Annihilate SP.
432-875 | 432 | AEH 315 Manufacturing Concentrate.
432-1477 | 432 | Prostar 70 WDG Fungicide.
707-312 | 707 | Rocima 80.
1015-72 | 1015 | Roo-Pru Super Tri Pak.
1258-161 | 1258 | HTH Dry Chlorinator Granular for Swimming Pools 70%.
1258-162 | 1258 | HTH Dry Chlorinator for Swimming Pools Tablet 70%.
1258-974 | 1258 | Calcium Hypochlorite Tablets—65.
1258-1064 | 1258 | Calcium Hypochlorite Sanitizer Tablets 60.
1258-1171 | 1258 | HTH Tablets 75.
1258-1218 | 1258 | Calcium Hypochlorite 20 Gram Tablets.
1258-1240 | 1258 | HTH Granular Sanitizer/Shock.
1258-1281 | 1258 | Pool Breeze Pool Care System Shock Treatment and Superchlorinator.
1258-1323 | 1258 | Arch OIT 45.
1258-1333 | 1258 | AW08.
1258-1348 | 1258 | AW78.
1258-1356 | 1258 | AW88 (ICM).
1258-1357 | 1258 | AW88 (MASS).
1258-1360 | 1258 | AW91 (MASS).
1258-1362 | 1258 | AW91 (RPL).
1381-209 | 1381 | Quinclorac 75 DF.
1381-234 | 1381 | Nicosulfuron 75%.
1381-235 | 1381 | Metsulfuron Methyl 60% Herbicide.
2792-61 | 2792 | Decco 240 Liquid Chlorine.
3008-60 | 3008 | ACC 50% Wood Preservative.
3008-86 | 3008 | Copper MEA Solution.
3008-90 | 3008 | ORD-X372.
3008-94 | 3008 | ORD-X280.
3008-103 | 3008 | CMC 9.0 Wood Preservative.
3008-104 | 3008 | Sustain 20CQ.
3008-105 | 3008 | Sustain 20T.
3008-106 | 3008 | Sustain 20.
3008-107 | 3008 | Everlast CA-B.
3008-108 | 3008 | Sustain 25 Antimicrobial.
3008-109 | 3008 | Sustain 25T.
3008-113 | 3008 | ORD-X380.
3008-118 | 3008 | ORD-X042.
3008-119 | 3008 | FIM 3.
3282-112 | 3282 | D-CON Farm, Ranch & Home.
3282-114 | 3282 | D-CON Bait Station XV.
4822-36 | 4822 | Johnson Buggy Whip Airborne Bug Killer.
4822-220 | 4822 | Raid Indoor Fogger Formula IV.
4822-388 | 4822 | S.C. Johnson Wax Raid Flea Killer Plus VIII Egg Stop Formula.
4822-473 | 4822 | Raid Ant & Roach Killer 16.
4822-563 | 4822 | PC-GI-08.
5185-459 | 5185 | Proteam HGH-Tech Tabs.
5383-89 | 5383 | Homeguard.
5383-117 | 5383 | Polyphase 612.
5383-140 | 5383 | Polyphase 710S.
5383-152 | 5383 | Polyphase 853CR.
5383-153 | 5383 | Polyphase 863CR.
5383-187 | 5383 | Fungitrol 10 LC.
5481-513 | 5481 | Discipline GC Granular Insecticide.
5481-514 | 5481 | Discipline 2EC Insecticide/Miticide.
5481-515 | 5481 | Discipline Flowable Insecticide/Miticide.
5481-516 | 5481 | Wisdom TC Flowable Termiticide/Insecticide.
6836-177 | 6836 | Lonza Formulation P-39.
7969-105 | 7969 | Polyram 80 DF.
7969-321 | 7969 | Cabrio Plus Fungicide.
9198-172 | 9198 | Anderson's Weedgrass Preventer.
9779-353 | 9779 | Terronate WDG.
10163-301 | 10163 | Moncut 70-DF.
10163-320 | 10163 | Moncoat MZ.
10404-67 | 10404 | Lesco 1% Dursban Granular Bait.
33270-35 | 33270 | Glufosinate 280 Herbicide.
47371-191 | 47371 | Formulation HWS-512.
61842-17 | 61842 | M-98-A10 Crop Protectant.
61842-19 | 61842 | Manufacturing Use Product.
61842-36 | 61842 | Carbaryl 97.5% Manufacturing Use Concentrate Insecticide.
66222-107 | 66222 | Chief 3SC Herbicide.
66222-168 | 66222 | Ecomazapyr 2SL.
66222-178 | 66222 | Picket TM Herbicide.
66222-179 | 66222 | Involve TM Herbicide.
66222-183 | 66222 | Adapt Herbicide.
70299-1 | 70299 | Zerotol Algaecide/Fungicide.
70299-2 | 70299 | Oxidate Broad Spectrum Bactericide/Fungicide.
70299-5 | 70299 | Terracide Broad Spectrum Bactericide/Fungicide.
70299-6 | 70299 | Greenclean Pro Granular Algaecide/Fungicide.
70299-8 | 70299 | Sanidate 12.0 Microbiocide.
70299-11 | 70299 | Sanidate 5.0 Sanitizer.
70627-69 | 70627 | Terrific Antibacterial Disinfectant Sanitizer.
70627-73 | 70627 | Scrubbing Bubbles Disinfectant Bathroom Cleaner.
73049-9 | 73049 | Devine Mycoherbicide.
74849-3 | 74849 | Ultima Platinum Plus.
81824-2 | 81824 | Maxxthor Golf CG.
82957-5 | 82957 | Abamectin Technical.
83222-8 | 83222 | Mighty Met 60 DF Herbicide.
83222-25 | 83222 | Bighorn DF Herbicide.
83222-26 | 83222 | Cherokee DF Herbicide.
83222-27 | 83222 | Cherokee Extra DF Herbicide.
83222-28 | 83222 | Unite Broadspectrum Herbicide.
83222-29 | 83222 | Unite Tankmix Herbicide.
83222-35 | 83222 | Pendimethalin 3.3 EC.
83923-1 | 83923 | Bithor SC GC.
83923-3 | 83923 | Prothor SC 0.5.
83923-5 | 83923 | Turfthor 2F.
83923-9 | 83923 | Turfthor 2.5G.
83923-10 | 83923 | Turfthor 0.5G.
83923-13 | 83923 | Bithor XT.
85685-1 | 85685 | Fourstar SBG.
89168-55 | 89168 | Liberty Bioact.
90330-1 | 90330 | Dicamba Technical.
90745-1 | 90745 | Root Gatorx.
AL080001 | 279 | Brigade 2EC Insecticide/Miticide.
AL110003 | 100 | Subdue Maxx.
AL140001 | 100 | Micora.
AL170002 | 7969 | Engenia Herbicide.
AR870005 | 400 | Dimilin 25W for Cotton/Soybean.
AZ070003 | 66222 | Vegetable Pro Herbicide.
AZ080010 | 100 | Solicam DF Herbicide.
AZ080014 | 66222 | Mana Alias 4F.
CA060001 | 66222 | Galigan 2E Oxyfluorfen Herbicide.
CA090001 | 71512 | Beleaf 50SG Insecticide.
CA100002 | 5481 | ABBA 0.15EC.
CA120001 | 100 | Subdue Maxx.
CA140005 | 100 | Micora.
FL110012 | 100 | Subdue Maxx.
FL170003 | 71711 | Tolfenpyrad 15EC Insecticide.
GA170001 | 7969 | Engenia Herbicide.
HI040003 | 264 | Provado 1.6 Flowable Insecticide.
HI100002 | 264 | Provado 1.6 Flowable Insecticide.
HI100005 | 264 | Ethrel Brand Ethephon Plant Regulator.
IA100001 | 279 | Mustang Max Insecticide.
IA130001 | 279 | Mustang Maxx.
IA180003 | 7969 | Engenia Herbicide.
ID040003 | 100 | Fusilade Dx Herbicide.
ID060023 | 66222 | Fanfare 2EC.
ID060024 | 66222 | Fanfare 2EC.
ID070014 | 71512 | Beleaf 50SG Insecticide.
ID150003 | 279 | Capture LFR Soil Insecticide.
IL100002 | 279 | Mustang Max Insecticide.
IL130001 | 279 | Mustang Maxx.
KS130002 | 66222 | Mana Atrazine 90DF.
KS990005 | 10163 | Treflan H.F.P.
KS990006 | 10163 | Treflan TR-10.
LA110004 | 279 | Mustang Insecticide.
LA120013 | 66222 | Parazone 3SL.
LA170001 | 7969 | Engenia Herbicide.
MI110008 | 59639 | Sureguard Herbicide.
MI120004 | 100 | Subdue Maxx.
MI140001 | 264 | Balance Flexx Herbicide.
MI140002 | 264 | Corvus Herbicide.
MN000001 | 100 | Dual Magnum Herbicide.
MN030009 | 279 | Nufos 4E.
MN050001 | 100 | Callisto.
MN060003 | 100 | Beacon.
MN090003 | 264 | Nortron Sc Herbicide.
MN100004 | 10163 | Treflan HFP.
MN110001 | 10163 | Moncut 70-DF.
MN180002 | 7969 | Engenia Herbicide.
MO050007 | 59639 | Valor Herbicide.
MO170003 | 7969 | Engenia Herbicide.
MO170004 | 352 | Dupont Fexapan Herbicide.
MO180001 | 7969 | Engenia Herbicide.
MS010006 | 4787 | Glyfos X-TRA.
MS010037 | 4787 | Glyfos Herbicide.
MS050003 | 71368 | Extra Credit 5 Systemic Herbicide.
MS130005 | 10163 | Malathion 8.
MT010002 | 10163 | Sonalan HFP.
MT060003 | 10163 | Sonalan 10G.
MT090003 | 71512 | Beleaf 50SG Insecticide.
MT150003 | 279 | Capture LFR Soil Insecticide.
NC110007 | 59639 | V-10137 1 EC (Herbicide).
NC120001 | 264 | Corvus Herbicide.
NC130004 | 61842 | Sectagon 42.
NC150001 | 66222 | Pyrimax 3.2 L Herbicide.
NC160001 | 264 | Sivanto 200 SL.
NC170002 | 7969 | Engenia Herbicide.
ND020013 | 4787 | Glyfos Herbicide.
ND030013 | 279 | Nufos 4E.
ND080003 | 228 | Nufarm Polaris.
ND110005 | 264 | Liberty 280 SL Herbicide.
ND130004 | 264 | Laudis Herbicide.
ND160001 | 9779 | Terranil 6L.
ND180001 | 7969 | Engenia Herbicide.
NE100001 | 279 | Mustang Max Insecticide.
NE100002 | 279 | Mustang Max Insecticide.
NE130002 | 352 | Dupont Basis Blend Herbicide.
NE150003 | 100 | Subdue Maxx.
NJ010002 | 71368 | Weedar 64 Broadleaf Herbicide.
NJ940006 | 71368 | Weedar 64 Broadleaf Herbicide.
NM100002 | 71512 | Beleaf 50SG Insecticide.
NV070007 | 71512 | Beleaf 50SG Insecticide.
NV100001 | 10163 | Moncut 70-DF.
NV900001 | 10163 | Treflan TR-10 Granules.
NV950001 | 10163 | Sonalan HFP.
NY150001 | 7969 | Merivon Xemium Brand Fungicide.
OR160011 | 279 | Exirel Insect Control.
OR980006 | 10163 | Gowan Cryolite Bait.
PA150002 | 100 | Subdue Maxx.
SD080001 | 7969 | G-Max Lite Herbicide.
SD130007 | 264 | Laudis Herbicide.
SD150004 | 264 | SC 547 Herbicide.
TN180003 | 7969 | Engenia Herbicide.
TX030005 | 400 | Terramaster 4EC.
TX080001 | 279 | Brigade 2EC Insecticide/Miticide.
TX080020 | 400 | Firestorm.
TX080022 | 264 | Ethrel Brand Ethephon Plant Regulator.
TX150004 | 100 | Subdue Maxx.
TX930003 | 10163 | Treflan TR-10.
TX940005 | 400 | Comite II.
TX960012 | 10163 | Treflan H.F.P.
UT070007 | 71512 | Beleaf 50SG Insecticide.
UT140001 | 10163 | Onager 1E.
UT180003 | 100 | Gramoxone SL 2.0.
UT870002 | 10163 | Treflan TR-10 Granules.
UT900001 | 10163 | Treflan TR-10 Granules.
VA110004 | 264 | Balance Flexx Herbicide.
VA110005 | 264 | Corvus Herbicide.
VA130003 | 61842 | Sectagon 42.
VA150003 | 100 | Subdue Maxx.
WA000024 | 400 | Dimilin 2L.
WA020030 | 264 | Aliette WDG Fungicide.
WA040005 | 10163 | Onager 1E.
WA060007 | 66222 | Rimon 0.83 EC.
WA070013 | 71512 | Beleaf 50SG Insecticide.
WA070015 | 279 | Brigade 2EC Insecticide/Miticide.
WA070017 | 279 | Brigade 2EC Insecticide/Miticide.
WA090005 | 9779 | Simazine 4L.
WA150002 | 279 | Capture LFR Soil Insecticide.
WA900016 | 10163 | Treflan TR-10.
WA940018 | 10163 | Sonalan HFP.
WA980001 | 10163 | Gowan Cryolite Bait.
WI110002 | 71512 | Omega 500F.
WY030005 | 10163 | Sonalan HFP.
WY030006 | 100 | Fusilade DX Herbicide.
WY070004 | 400 | Acramite-4SC.
WY080001 | 400 | Comite.
WY080007 | 400 | Firestorm.
WY080008 | 71512 | Beleaf 50SG Insecticide.
WY100004 | 400 | Dimilin 2L.
WY140004 | 66222 | Parazone 3SL.

Table 2 of this unit includes the names and addresses of record for all registrants of the products in Table 1 of this unit, in sequence by EPA company number. This number corresponds to the first part of the EPA registration numbers of the products listed in this unit.

Table 2—Registrants Requesting Voluntary Cancellation
EPA company No. | Company name and address
100 | Syngenta Crop Protection, LLC, P.O. Box 18300, Greensboro, NC 27419.
228 | Nufarm Americas, Inc., 4020 Aerial Center Parkway, Suite 101, Morrisville, NC 27560.
264 | Bayer Cropscience LP, 800 N Linbergh Blvd., St. Louis, MO 63167.
279 | FMC Corporation, 2929 Walnut Street, Philadelphia, PA 19104.
352 | E. I. Du Pont de Nemours and Company, 9330 Zionsville Road, Indianapolis, IN 46268.
400 | MacDermid Agricultural Solutions, Inc., c/o Arysta Lifescience North America, LLC, 15401 Weston Parkway, Suite 150, Cary, NC 27513.
432 | Bayer Environmental Science, A Division of Bayer Cropscience LP, 5000 Centregreen Way, Suite 400, Cary, NC 27513.
707 | DDP Specialty Electronic Materials US 5, LLC, 200 Powder Mill Road—ESL 353, Wilmington, DE 19803.
1015 | Pyxis Regulatory Consulting, Inc., Agent for Douglas Products and Packaging Co., 4110 136th Street CT NW, Gig Harbor, WA 98332.
1258 | Arch Chemicals, Inc., 1200 Bluegrass Lakes Parkway, Alpharetta, GA 30004.
1381 | Winfield Solutions, LLC, P.O. Box 64589, St. Paul, MN 55164.
2792 | Decco US Post-Harvest, Inc., 1713 South California Avenue, Monrovia, CA 91016.
3008 | Koppers Performance Chemicals, Inc., 1016 Everee Inn Road, Griffin, GA 30224.
3282 | Reckitt Benckiser LLC, 399 Interpace Parkway, Parsippany, NJ 07054.
4787 | FMC Corporation, Agent for Cheminova A/S, 1735 Market Street, Philadelphia, PA 19103.
4822 | S.C. Johnson & Son, Inc., 1525 Howe Street, Racine, WI 53403.
5185 | Bio-Lab, Inc., P.O. Box 30002, Lawrenceville, GA 30049.
5383 | Troy Chemical Corp., c/o. Troy Corporation, 8 Vreeland Road, Florham Park, NJ 07932.
5481 | AMVAC Chemical Corporation, 4695 MacArthur Court, Suite 1200, Newport Beach, CA 92660.
6836 | Lonza Inc., 412 Mount Kemble Avenue, Suite 200S, Morristown, NJ 07960.
7969 | BASF Corporation, Agricultural Products, P.O. Box 13528, Research Triangle Park, NC 27709.
9198 | The Andersons, Inc., P.O. Box 119, Maumee, OH 43537.
9779 | Winfield Solutions, LLC, P.O. Box 64589, St. Paul, MN 55164.
10163 | Gowan Company, P.O. Box 5569, Yuma, AZ 85366.
10404 | LESCO, Inc., 1385 East 36th Street, Cleveland, OH 44114.
33270 | Winfield Solutions, LLC, P.O. Box 64589, St. Paul, MN 55164.
47371 | H&S Chemicals Division of Lonza Inc., 412 Mount Kemble Avenue, Suite 200S, Morristown, NJ 07960.
59639 | Valent U.S.A. Corporation, 1600 Riviera Avenue, Suite 200, Walnut Creek, CA 94596.
61842 | Pyxis Regulatory Consulting, Inc., Agent for Tessenderlo Kerley, Inc., 4110 136th Street CT NW, Gig Harbor, WA 98332.
66222 | Makhteshim Agan of North America, Inc., D/B/A Adama, 3120 Highwoods Blvd., Suite 100, Raleigh, NC 27604.
70299 | Biosafe Systems, LLC, 22 Meadow Street, East Hartford, CT 06108.
70627 | Diversey, Inc., P.O. Box 19747, Charlotte, NC 28219.
71368 | Nufarm, Inc., 4020 Aerial Center Parkway, Suite 101, Morrisville, NC 27560.
71512 | ISK Biosciences Corporation, 7470 Auburn Road, Suite A, Concord, OH 44077.
71711 | Nichino America, Inc., 4550 Linden Hill Road, Suite 501, Wilmington, DE 19808.
73049 | Valent Biosciences LLC, 870 Technology Way, Libertyville, IL 60048.
74849 | Innovative Water Care, LLC, D/B/A Advantis Technologies, 1400 Bluegrass Lakes Parkway, Alpharetta, GA 30004.
81824 | Pyxis Regulatory Consulting, Inc., Agent for Ensystex II, Inc., 4110 136th Street CT NW, Gig Harbor, WA 98332.
82957 | Pyxis Regulatory Consulting, Inc., Agent for Ensystex III, Inc., 4110 136th Street CT NW, Gig Harbor, WA 98332.
83222 | Winfield Solutions, LLC, P.O. Box 64589, St. Paul, MN 55164.
83923 | Pyxis Regulatory Consulting, Inc., Agent for Ensystex IV, Inc., 4110 136th Street CT NW, Gig Harbor, WA 98332.
85685 | Fourstar Microbial Products, LLC, 1501 East Woodfield Road, Suite 200 West, Schaumburg, IL 60173.
89168 | Liberty Crop Protection, LLC, 1880 Fall River Drive, #100, Loveland, CO 80538.
90330 | Pyxis Regulatory Consulting, Inc., Agent for US Raymat AG LLC, 4110 136th Street CT NW, Gig Harbor, WA 98332.
90745 | KRK Consulting LLC, Agent for RCS II Inc., 5807 Churchill Way, Medina, OH 44256.

III. What is the Agency's authority for taking this action?

Section 6(f)(1) of FIFRA (7 U.S.C. 136d(f)(1)) provides that a registrant of a pesticide product may at any time request that any of its pesticide registrations be canceled. FIFRA further provides that, before acting on the request, EPA must publish a notice of receipt of any such request in the Federal Register. EPA will provide a 30-day comment period on the proposed requests. Thereafter, the EPA Administrator may approve such a request.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action. Because the Agency has identified no significant potential risk concerns associated with these pesticide products, upon cancellation of the products identified in Table 1 of Unit II., EPA anticipates allowing registrants to sell and distribute existing stocks of these products until January 15, 2020, or the date of that the cancellation notice is published in the Federal Register, whichever is later. Thereafter, registrants will be prohibited from selling or distributing the pesticides identified in Table 1 of Unit II., except for export consistent with FIFRA section 17 or for proper disposal. Persons other than registrants will generally be allowed to sell, distribute, or use existing stocks until such stocks are exhausted, provided that such sale, distribution, or use is consistent with the terms of the previously approved labeling on, or that accompanied, the canceled products.

Authority: 7 U.S.C. 136 et seq.

Dated: September 11, 2019.
Delores Barber,
Director, Information Technology and Resources Management Division, Office of Pesticide Programs.

[FR Doc. 2019-20523 Filed 9-20-19; 8:45 am]

BILLING CODE 6560-50-P